DEPARTMENT OF EDUCATION

Office of Innovation and Improvement; Overview Information; Voluntary Public School Choice Program (VPSC); Notice Inviting Applications for New Awards for Fiscal Year (FY) 2007

Catalog of Federal Domestic Assistance (CFDA) Number: 84.361A

Dates: Applications Available: February 1, 2007.

Deadline for Notice of Intent to Apply: February 26, 2007.

Deadline for Transmittal of Applications: April 2, 2007.

Deadline for Intergovernmental Review: June 1, 2007.

Eligible Applicants:

(a) One or more State educational agencies (SEAs);

(b) One or more local educational agencies (LEAs);

(c) One or more SEAs in partnership with one or more LEAs or other public, for-profit, or non-profit entities; or

(d) One or more LEAs in partnership with one or more public, for-profit, or non-profit entities.

Note: For regulations governing partnership applications, see 34 CFR 75.127 through 75.129.

Estimated Available Funds: The Administration has requested $26,278,000 for this program for FY 2007. The actual level of funding, if any, depends on final congressional action. However, we are inviting applications to allow enough time to complete the grant process before the end of the current fiscal year, if Congress appropriates funds for this program.

Estimated Range of Awards: $700,000-$3,000,000 per year.

Estimated Average Size of Awards: $2,000,000 per year.

Estimated Number of Awards: 10-15.

Note: The Department is not bound by any estimates in this notice.

Project Period: Up to 60 months.

Full Text of Announcement

I. Funding Opportunity Description

Purpose of Program: This program provides grants for eligible applicants to establish or expand a program of voluntary public school choice. This public school choice program must focus on providing parents with greater options in acquiring a high-quality public education for their children, particularly parents whose children currently attend schools in need of improvement as defined in section 1116(b) of the Elementary and Secondary Education Act of 1965, as amended by the No Child Left Behind Act of 2001 (ESEA).

Priorities: This notice contains five competitive preference priorities. In accordance with 34 CFR 75.105(b)(2)(iv) and (b)(2)(v), Competitive Preference Priorities 1 through 3 are from section 5244 of the ESEA (20 U.S.C. 7225c) and Competitive Preference Priorities 4 and 5 are from the notice of final priorities for discretionary grant programs published in the Federal Register on October 11, 2006 (71 FR 60046).

Competitive Preference Priorities: For FY 2007, these priorities are competitive preference priorities. Under 34 CFR 75.105(c)(2), we give preference to and award up to 60 points to an application that meets one or more of these priorities over an application that does not meet one or more of these priorities.

These priorities are:

Competitive Preference Priority 1: Partnership/Interdistrict Approach. Up to 20 points for establishing or expanding a partnership that implements an interdistrict approach to carrying out a public school choice program. This priority focuses on implementing different models of interdistrict choice arrangements that foster collaboration and cooperation between LEAS in order to expand options for students to attend higher-performing schools.

Note: In determining whether a proposed project would implement interdistrict choice, the Department will consider, among other things, a written partnership agreement between two or more school districts to accept students as transfers from low-performing schools in one school district to higher-performing schools in another school district.

Background: The ESEA requires LEAs that have Title I schools identified for improvement, but cannot provide the students attending those identified schools with the option to attend another school within the LEA, to the extent practicable, to enter into partnerships with other LEAs that can accept their students as transfers. Other LEAs that have schools identified for improvement, even if they can provide some choice within the LEA, may also enter into such partnerships to provide a broader range of educational options. However, very few students have participated in interdistrict choice programs under the Title I choice provisions, and the failure or inability of LEAs to enter into interdistrict agreements has likely contributed to the very limited participation in Title I choice arrangements nationally. (Only one percent of students eligible to change schools under the Title I provisions have done so.)

However, surveys and other data clearly show that parents and students will take advantage of interdistrict choice opportunities when they are made available. Existing interdistrict choice arrangements are well-subscribed. The Secretary believes that expanding interdistrict choice arrangements will give students enrolled in schools identified for improvement much broader choices in transferring to higher-performing schools. The Department is focusing this competition on an interdistrict choice priority by providing a significant number of points for applicants that propose to use interdistrict approaches to public school choice.

Competitive Preference Priority 2: Wide Variety of Choices. Up to 10 points for providing a wide variety of choices to all students in participating schools.

Note: In determining whether a proposed project would provide a wide variety of choices, the Department will consider, among other things, the characteristics of the school district. For example, a wide variety of choices in a small rural district may differ from a wide variety of choices in a large urban district.

Competitive Preference Priority 3: Substantial Impact on Students in Low-Performing Schools. Up to 10 points for having a substantial impact, through various choice options, in allowing students in low-performing schools to attend higher-performing schools.

Note: In determining whether a proposed project would have a substantial impact in allowing students in low-performing schools to attend higher-performing schools, the Department will consider, among other things, the percentage of students in low-performing schools who would be able to attend higher-performing schools under the jurisdiction of the applicant and/or neighboring school district jurisdictions.

Competitive Preference Priority 4: Secondary Schools. Up to 10 points for projects that support activities and interventions aimed at improving the academic achievement of secondary school students who are at greatest risk of not meeting challenging State academic standards and not completing high school.

Competitive Preference Priority 5: Student Achievement Data. Up to 10 points for projects that collect pre- and post-intervention test data to assess the effect of the projects on the academic achievement of student participants relative to appropriate comparison or control groups.

Statutory And Regulatory Requirements

Permissible Activities: Activities supported under this competition must establish or expand a program of public school choice and may involve one or more of the following:

• The cost of providing students selected to participate in the program with transportation services or a substantial portion of the cost of transportation to and from the public elementary schools and secondary schools, including charter schools, that the students choose to attend under the public school choice program.

• The cost of planning or designing a program (for not more than one year).

• The cost of making tuition transfer payments to public elementary or secondary schools to which students transfer under the program.

• The cost of capacity-enhancing activities that enable high-demand public elementary or secondary schools to accommodate transfer requests under the program.

• The cost of carrying out public education campaigns to inform students and parents about the program.

• The cost of other activities reasonably necessary to implement the program.

Note: Grant funds may not be used for school construction.

Note: The term charter school has the meaning given such term in section 5210(1) of ESEA.

Note: Applications that do not propose to use grant funds to provide students selected to participate in the program with transportation services or the cost of transportation to or from the public elementary or secondary schools, including charter schools, the students choose to attend under the program must include a detailed explanation of how such transportation services or costs will be paid.

Application Requirements: An application submitted to the Secretary must include the following:

a. A description of the program for which the eligible entity seeks funds and the goals for the program.

b. A description of how and when parents of students who are to be served by the program will be given prompt notification of: (1) The existence of the program, (2) the program's availability, and (3) a clear explanation of how the program will operate.

c. A description of how students will be selected for the program.

Note: Students must be selected on the basis of lottery if more students apply to participate in the program than can be accommodated.

d. A description of how the program will be coordinated with, and will complement and enhance, the applicant's other related Federal and non-Federal projects.

e. If the program is to be carried out by a partnership, the name of each partner, a description of the partners' responsibilities, and a written partnership agreement that meets the requirements of 34 CFR 75.128(b).

f. Among the application requirements, an assurance that the applicant will collect information to meet the requirements of 34 CFR 75.590.

Note: Section 75.590 requires the recipient of an award to evaluate at least annually its progress in achieving the objectives in its approved application, the effectiveness of the project in meeting the purposes of the program, and the program's effects on participants being served by the project.

Program Authority: 20 U.S.C. 7225-7225g.

Applicable Regulations: (a) The Education Department General Administrative Regulations (EDGAR) in 34 CFR parts 74, 75, 77, 79, 80, 82, 84, 85, 86, 97, 98, and 99. (b) The notice of final priorities for discretionary grant programs published in the Federal Register on October 11, 2006 (71 FR 60046).

Note: The regulations in 34 CFR part 79 apply to all applicants except federally recognized Indian tribes.

Note: The regulations in 34 CFR part 86 apply to institutions of higher education only.

II. Award Information

Type of Award: Discretionary grants.

Estimated Available Funds: The Administration has requested $26,278,000 for this program for FY 2007. The actual level of funding, if any, depends on final congressional action. However, we are inviting applications to allow enough time to complete the grant process before the end of the current fiscal year, if Congress appropriates funds for this program.

Estimated Range of Awards: $700,000-$3,000,000 per year.

Estimated Average Size of Awards: $2,000,000 per year.

Estimated Number of Awards: 10-15.

Note: The Department is not bound by any estimates in this notice.

Project Period: Up to 60 months.

III. Eligibility Information

1. Eligible Applicants:

(a) One or more SEAs;

(b) One or more LEAs;

(c) One or more SEAs in partnership with one more LEAs or other public, for-profit, or non-profit entities; or

(d) One or more LEAs in partnership with one or more public, for-profit, or non-profit entities.

Note: For regulations governing partnership applications, see 34 CFR 75.127 through 75.129.

2. Cost Sharing or Matching: This competition does not involve cost sharing or matching.

IV. Application and Submission Information

1. Address to Request Application Package: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application from ED Pubs, be sure to identify this competition as follows: CFDA number 84.361A.

You may also obtain the application package for the program via the Internet at the following address: http://www.ed.gov/programs/voluntarypublicschoolchoice/applicant.html.

Individuals with disabilities may obtain a copy of the application package in an alternative format (e.g., Braille, large print, audiotape, or computer diskette) by contacting the program contact person listed in section

VII. Agency Contact of This Notice

2. Content and Form of Application Submission: Requirements concerning the content of an application, together with the forms you must submit, are in the application package for this program.

Notice of Intent to Apply: The Department will be able to develop a more efficient process for reviewing grant applications if it has a better understanding of the number of applicants that intend to apply for funding under this program. Therefore, the Secretary strongly encourages each potential applicant to notify the Department with a short e-mail indicating the applicant's intent to submit an application for funding. The e-mail need not include information regarding the content of the proposed application, only the applicant's intent to submit it. This e-mail notification should be sent to Iris A. Lane at: vpsc@ed.gov. Applicants that fail to provide this e-mail notification may still apply for funding.

Page Limit: The program narrative is where you, the applicant, address the selection criteria that reviewers use to evaluate your application. You must limit the program narrative section that addresses the selection criteria to the equivalent of no more than 75 pages, using the following standards:

• A “page” is 8.5″ x 11″, on one side only, with 1″ margins at the top, bottom, and both sides. Page numbers and an identifier may be within the 1″ margin.

• Double space (no more than three lines per vertical inch) all text in the application narrative, except titles, headings, footnotes, quotations, references, captions, and all text in charts, tables, and graphs may be single spaced.

• Use one or more of the following fonts: Times New Roman, Courier, Courier New or Arial. Applications submitted in any other font (including Times Roman and Arial Narrow) will be rejected.

• Use not less than 12-point font.

The page limit does not apply to Part I, the Application for Federal Assistance face sheet (SF 424); the supplemental information form required by the Department of Education; Part II, the budget information summary form (ED 524); and Part IV, the assurances, certifications and related information. The page limit also does not apply to a table of contents, an abstract, resumes, or letters of support. However, you must include all of the application narrative in Part III. You must include your complete response to the selection criteria in the program narrative.

Our reviewers will not read any pages of your application that—

• Exceed the page limit if you apply these standards; or

• Exceed the equivalent of the page limit if you apply other standards.

3. Submission Dates and Times: Applications Available: February 1, 2007.

Deadline for Notice of Intent to Apply: February 26, 2007.

Deadline for Transmittal of Applications: April 2, 2007.

Applications for grants under this program must be submitted electronically using the Grants.gov Apply site (Grants.gov). For information (including dates and times) about how to submit your application electronically, or by mail or hand delivery if you qualify for an exception to the electronic submission requirement, please refer to section IV. 6. Other Submission Requirements in this notice.

We do not consider an application that does not comply with the deadline requirements.

Individuals with disabilities who need an accommodation or auxiliary aid in connection with the application process should contact the person listed under FOR FURTHER INFORMATION CONTACT.

Deadline for Intergovernmental Review: June 1, 2007.

4. Intergovernmental Review: This program is subject to Executive Order 12372 and the regulations in 34 CFR part 79. Information about Intergovernmental Review of Federal Programs under Executive Order 12372 is in the application package for this program.

5. Funding Restrictions: We reference the regulations outlining funding restrictions in the Applicable Regulations section of this notice.

6. Other Submission Requirements. Applications for grants under this program must be submitted electronically unless you qualify for an exception to this requirement in accordance with the instructions in this section.

a. Electronic Submission of Applications.

Applications for grants under the Voluntary Public School Choice Program, CFDA Number 84.361A must be submitted electronically using the Governmentwide Grants.gov Apply site at http://www.Grants.gov. Through this site, you will be able to download a copy of the application package, complete it offline, and then upload and submit your application. You may not e-mail an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the Voluntary Public School Choice Program at http://www.Grants.gov. You must search for the downloadable application package for this program or competition by the CFDA number. Do not include the CFDA number's alpha suffix in your search (e.g., search for 84.361, not 84.361A).

Please note the following:

• When you enter the Grants.gov site, you will find information about submitting an application electronically through the site, as well as the hours of operation.

• Applications received by Grants.gov are date and time stamped. Your application must be fully uploaded and submitted, and must be date and time stamped by the Grants.gov system no later than 4:30 p.m., Washington, DC time, on the application deadline date. Except as otherwise noted in this section, we will not consider your application if it is date and time stamped by the Grants.gov system later than 4:30 p.m., Washington, DC time, on the application deadline date. When we retrieve your application from Grants.gov, we will notify you if we are rejecting your application because it was date and time stamped by the Grants.gov system after 4:30 p.m., Washington, DC time, on the application deadline date.

• The amount of time it can take to upload an application will vary depending on a variety of factors including the size of the application and the speed of your Internet connection. Therefore, we strongly recommend that you do not wait until the application deadline date to begin the submission process through Grants.gov.

• You should review and follow the Education Submission Procedures for submitting an application through Grants.gov that are included in the application package for this program to ensure that you submit your application in a timely manner to the Grants.gov system. You can also find the Education Submission Procedures pertaining to Grants.gov at http://e-Grants.ed.gov/help/GrantsgovSubmissionProcedures.pdf.

• To submit your application via Grants.gov, you must complete all steps in the Grants.gov registration process (see http://www.grants.gov/applicants/get_registered.jsp). These steps include (1) registering your organization, a multi-part process that includes registration with the Central Contractor Registry (CCR); (2) registering yourself as an Authorized Organization Representative (AOR); and (3) getting authorized as an AOR by your organization. Details on these steps are outlined in the Grants.gov 3-Step Registration Guide (see http://www.grants.gov/section910/Grants.govRegistrationBrochure.pdf). You also must provide on your application the same D-U-N-S Number used with this registration. Please note that the registration process may take five or more business days to complete, and you must have completed all registration steps to allow you to submit successfully an application via Grants.gov. In addition you will need to update your CCR registration on an annual basis. This may take three or more business days to complete.

• You will not receive additional point value because you submit your application in electronic format, nor will we penalize you if you qualify for an exception to the electronic submission requirement, as described elsewhere in this section, and submit your application in paper format.

• You must submit all documents electronically, including all information you typically provide on the following forms: Application for Federal Assistance (SF 424), the Department of Education Supplemental Information for SF 424, Budget Information—Non-Construction Programs (ED 524), and all necessary assurances and certifications. Please note that two of these forms—the SF 424 and the Department of Education Supplemental Information for SF 424—have replaced the ED 424 (Application for Federal Education Assistance).

• You must attach any narrative sections of your application as files in a .DOC (document), .RTF (rich text), or .PDF (Portable Document) format. If you upload a file type other than the three file types specified in this paragraph or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk at 1-800-518-4726. You must obtain a Grants.gov Support Desk Case Number and must keep a record of it.

If you are prevented from electronically submitting your application on the application deadline date because of technical problems with the Grants.gov system, we will grant you an extension until 4:30 p.m., Washington, DC time, the following business day to enable you to transmit your application electronically or by hand delivery. You also may mail your application by following the mailing instructions described elsewhere in this notice.

If you submit an application after 4:30 p.m., Washington, DC time, on the application deadline date, please contact the person listed elsewhere in this notice under FOR FURTHER INFORMATION CONTACT and provide an explanation of the technical problem you experienced with Grants.gov, along with the Grants.gov Support Desk Case Number. We will accept your application if we can confirm that a technical problem occurred with the Grants.gov system and that that problem affected your ability to submit your application by 4:30 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and mail or fax your statement to: Iris A. Lane, U.S. Department of Education, 400 Maryland Avenue, SW., room 4W219, Washington, DC 20202-5970. FAX: (202) 205-5630.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the applicable following address:

By mail through the U.S. Postal Service: U.S. Department of Education, Application Control Center, Attention: CFDA Number (84.361A), 400 Maryland Avenue, SW., Washington, DC 20202-4260; or

By mail through a commercial carrier: U.S. Department of Education, Application Control Center, Stop 4260, Attention: CFDA Number (84.361A), 7100 Old Landover Road, Landover, MD 20785-1506.

Regardless of which address you use, you must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: (CFDA Number 84.361A), 550 12th Street, SW., Room 7041, Potomac Center Plaza, Washington, DC 20202-4260. The Application Control Center accepts hand deliveries daily between 8 a.m. and 4:30 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are from 34 CFR 75.210 and sections 5243 and 5244 of the ESEA. The maximum score for all of the selection criteria is 100 points. The maximum score for each criterion is indicated in parentheses with the criterion. The maximum number of points an application may earn based on the competitive preference priorities and the selection criteria is 160 points. The criteria are as follows:

(a) Significance (up to 10 points). The Secretary considers the significance of the proposed project. In determining the significance of the proposed project, the Secretary considers the following factors:

(1) The likelihood that the proposed project will result in system change or improvement.

(2) The extent to which the proposed project is likely to build local capacity to provide, improve, or expand services that address the needs of the target population.

(b) Quality of the project design (up to 30 points). The Secretary considers the quality of the design of the proposed project. In determining the quality of the design of the proposed project, the Secretary considers the following factors:

(1) The extent to which the proposed project encourages parental involvement and ensures that parents have comprehensive information about their educational choices.

(2) The extent to which the design for implementing and evaluating the proposed project will result in information to guide possible replication of project activities or strategies, including information about the effectiveness of the approach or strategies employed by the project.

(3) The extent to which the proposed project is designed to build capacity and yield results that will extend beyond the period of Federal financial assistance.

(c) Quality of project services (up to 20 points). The Secretary considers the quality of the services to be provided by the proposed project. In determining the quality of the services to be provided by the proposed project, the Secretary considers the quality and sufficiency of strategies for ensuring equal access and treatment for eligible project participants who are members of groups that have traditionally been underrepresented based on race, color, national origin, gender, age, or disability. In addition, the Secretary considers the following factors:

(1) The likelihood that the services to be provided by the proposed project will lead to improvements in the achievement of students as measured against rigorous academic standards.

(2) The extent to which the services to be provided by the proposed project involve the collaboration of appropriate partners for maximizing the effectiveness of project services.

(d) Quality of the management plan (up to 20 points). The Secretary considers the quality of the management plan for the proposed project. In determining the quality of the management plan for the proposed project, the Secretary considers the adequacy of the management plan to achieve the objectives of the proposed project on time and within budget, including whether it includes clearly defined responsibilities, timelines, and milestones for accomplishing project tasks.

(e) Quality of the project evaluation (up to 20 points). The Secretary considers the quality of the evaluation to be conducted of the proposed project. In determining the quality of the evaluation, the Secretary considers the extent to which the methods of evaluation include the use of objective performance measures that are clearly related to the intended outcomes of the project and will produce quantitative and qualitative data to the extent possible.

Note: A strong evaluation plan should be included in the application narrative and should be used, as appropriate, to shape the development of the project from the beginning of the grant period. The plan should include benchmarks to monitor progress toward specific project objectives and also outcome measures to assess the impact on teaching and learning or other important outcomes for project participants. More specifically, the plan should identify the individual and/or organization that has agreed to serve as evaluator for the project and describe the qualifications of that evaluator. The plan should describe the evaluation design, indicating: (1) What types of data will be collected (individual-level and school-level data); (2) when various types of data will be collected; (3) what methods will be used; (4) what instruments will be developed and when; (5) how the data will be analyzed; (6) when reports of results and outcomes will be available; and (7) how the applicant will use the information collected through the evaluation to monitor progress of the funded project and to provide accountability information both about success at the initial site and effective strategies for replication in other settings. Applicants are encouraged to devote an appropriate level of resources to project evaluation.

2. Review and Selection Process: The Secretary will select an application for funding in rank-order, based on the application's total score for the selection criteria and priorities.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118. For specific requirements on grantee reporting, please go to http://www/ed/gov/fund/grant/apply/appforms.html.

4. Performance Measures: The program goal is to assist States and local school districts in creating, expanding, and implementing a public school choice program. The Secretary has established three performance indicators: (1) The number of students who have the option of attending participating VPSC schools selected by their parents; (2) The percentage of students participating at VPSC sites who exercise school choice by changing schools; and, (3) The percentage of participating students whose achievement increases in mathematics and reading. All grantees will be expected to submit an annual performance report documenting their contribution in assisting the Department in measuring the performance of the program against these indicators.

VII. Agency Contact

FOR FURTHER INFORMATION CONTACT: Iris A. Lane, U.S. Department of Education, 400 Maryland Avenue, SW., room 4W219, Washington, DC 20202-5970. Telephone: (202) 260-1999 or by e-mail: vpsc@ed.gov.

If you use a telecommunications device for the deaf (TDD), you may call the Federal Relay Service (FRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: January 26, 2007.
Morgan S. Brown,
Deputy Assistant Secretary for Innovation and Improvement.

[FR Doc. E7-1539 Filed 1-31-07; 8:45 am]

BILLING CODE 4000-01-P